DEPARTMENT OF THE INTERIOR

Bureau of Indian Affairs

[212A2100DD/AAKC001030/A0A501010.999900253G]

Final Environmental Impact Statement for the Little River Band Trust Acquisition and Casino Project, Township of Fruitport, Muskegon County, Michigan

AGENCY: Bureau of Indian Affairs, Interior.

ACTION: Notice of availability.

SUMMARY: This notice advises the public that the Bureau of Indian Affairs (BIA) as lead agency, with the Township of Fruitport, County of Muskegon, Little River Band of Ottawa Indians (Tribe), and Federal Highway Administration serving as cooperating agencies, intends to file a Final Environmental Impact Statement (FEIS) with the U.S. Environmental Protection Agency (EPA) in connection with the Tribe's application requesting the transfer into trust by the United States of approximately 60 acres of land for gaming and other purposes in the Township of Fruitport, County of Muskegon, Michigan.

DATES: The Record of Decision for the proposed action will be issued on or after 30 days from the date the EPA will publish its Notice of Availability in the Federal Register. The BIA must receive any comments on the FEIS before that date.

ADDRESSES: You may mail comments to Ms. Tammie Poitra, Midwest Regional Director, Bureau of Indian Affairs, Midwest Region, Norman Pointe II Building, 5600 West American Boulevard, Suite 500, Bloomington, MN 55347. Please include your name, return address, and the caption: “FEIS Comments, Little River Band Trust Acquisition and Casino Project,” on the first page of your written comments.

FOR FURTHER INFORMATION CONTACT: Mr. Scott Doig, Regional Environmental Scientist, Division of Environmental, Facilities, Safety and Cultural Resource Management (DEFSCRM), Bureau of Indian Affairs, Midwest Region, Norman Pointe II Building, 5600 West American Boulevard, Suite 500, Bloomington, MN 55347; phone: (612) 725-4514; email: scott.doig@bia.gov. Information is also available online at www.littlerivereis.com.

SUPPLEMENTARY INFORMATION: The BIA published a Notice of Availability for the Draft EIS in the Federal Register on November 21, 2018 (83 FR 58783), and on December 12, 2018, held a public hearing for the proposed project at Fruitport Middle School, 3113 East Pontaluna Road, Fruitport, Michigan 49415. On March 18, 2019, the BIA reopened the public comment period until April 17, 2019 (84 FR 9807).

Background: The Proposed Project consists of the following components: (1) The Department of the Interior's (Department) transfer of approximately 60 acres from fee to trust status pursuant to Section 5 of the Indian Reorganization Act (25 U.S.C. 5108); (2) issuance of a determination by the Secretary of the Interior pursuant to Section 20 of the Indian Gaming Regulatory Act determining whether a gaming facility on the project site would be in the best interest of the Tribe and its members and not detrimental to the surrounding community (25 U.S.C. 2719(b)(1)(A)); and (3) development of the trust parcel and adjacent land owned by the Tribe, totaling approximately 86.5 acres, with a variety of uses including a casino, hotel, conference center, parking, and other supporting facilities.

The following alternatives are considered in the FEIS: (1) Proposed Project; (2) Reduced Intensity Alternative; (3) Non-Gaming Alternative; (4) Custer Site Alternative; and (5) No Action/No Development. The BIA has selected Alternative 1, the Proposed Project, as the Preferred Alternative as discussed in the FEIS.

Environmental issues addressed in the FEIS include geology and soils, water resources, air quality, biological resources, cultural and paleontological resources, socioeconomic conditions (including environmental justice), transportation and circulation, land use, public services, noise, hazardous materials, aesthetics, cumulative effects, and indirect and growth-inducing effects.

The information and analysis contained in the FEIS, as well as its evaluation and assessment of the Preferred Alternative, will assist the Department in its review of the issues presented in the Tribe's application. Selection of the Preferred Alternative does not indicate the Department's final decision because the Department must complete its review process. The Department's review process consists of (1) issuing the notice of availability of the FEIS; (2) issuing a Record of Decision no sooner than 30 days following publication of the Notice of Availability of the FEIS by the EPA in the Federal Register; (3) issuing a Secretarial Determination pursuant to Section 20 of the Indian Gaming Regulatory Act that determines whether the Tribe's gaming facility would be in the best interest of the Tribe and its members and is not detrimental to the surrounding community, 25 U.S.C. 2719(b)(1)(A); (4) requesting the Governor of Michigan's concurrence with the Secretarial Determination; and (5) issuing a final decision on the transfer of the proposed site from fee to trust status pursuant to Section 5 of the Indian Reorganization Act, 25 U.S.C. 5108.

Locations where the FEIS is available for review: The FEIS will be available for review at the Fruitport Public Library located at 605 Eclipse Blvd., Fruitport, Michigan 53511, and online at www.littlerivereis.com. Contact information is listed in the FOR FURTHER INFORMATION CONTACT section of this notice. Individual paper copies of the DEIS will be provided only upon payment of applicable printing expenses by the requestor for the number of copies requested.

Public comment availability: Comments, including names and addresses of respondents, will be available for public review at the BIA address shown in the ADDRESSES section, during regular business hours by appointment only, 8 a.m. to 4:30 p.m., Monday through Friday, except holidays. Before including your address, phone number, email address, or other personal identifying information in your comment, you should be aware that your entire comment—including your personal identifying information—may be made publicly available at any time. While you can ask in your comment that your personal identifying information be withheld from public review, the BIA cannot guarantee that this will occur.

Authority: This notice is published pursuant to Sec. 1503.1 of the Council of Environmental Quality Regulations (40 Code of Federal Regulations [CFR] parts 1500 through 1508) and Sec. 46.305 of the Department of the Interior Regulations (43 CFR part 46), implementing the procedural requirements of the NEPA of l969, as amended (42 U.S.C. 4371, et seq.), and is in the exercise of authority delegated to the Assistant Secretary—Indian Affairs by 209 DM 8.

Tara Sweeney,
Assistant Secretary—Indian Affairs.

[FR Doc. 2020-23508 Filed 10-22-20; 8:45 am]

BILLING CODE 4337-15-P